DEPARTMENT OF EDUCATION

Applications for New Awards; Juvenile Justice Reentry Education Program: Opening Doors to College and Careers Through Career and Technical Education

AGENCY: Office of Career, Technical, and Adult Education (OCTAE), Department of Education.

ACTION: Notice.

Overview Information: Juvenile Justice Reentry Education Program: Opening Doors to College and Careers through Career and Technical Education (JJ Reentry CTE Program) Notice inviting applications for new awards in fiscal year (FY) 2016.

Catalog of Federal Domestic Assistance (CFDA) Number: 84.051A.

DATES: Applications Available: August 31, 2015.

Date of Pre-Application Meeting: September 9, 2015.

Deadline for Transmittal of Applications: October 30, 2015.

Deadline for Intergovernmental Review: December 29, 2015.

Full Text of Announcement

I. Funding Opportunity Description

Purpose of Program: The purpose of this program is to improve outcomes for justice-involved youth through the provision of career and technical education (CTE) programs, reentry services, and post-release CTE and employment training opportunities for juveniles in and exiting from juvenile justice confinement.

Background: On any given day, more than 60,000 young people under age 21 are confined in juvenile justice facilities throughout the United States.¹ Youths involved in the juvenile justice system typically have a history of poor school attendance, grade retention, or disengagement from school due to academic failure and school disciplinary issues. These youths also have lower literacy and numeracy skills than their peers, and many are eligible for special education services.² Less than 20 percent are estimated to have obtained their General Educational Development (GED) or high school diploma.³

¹ National Report Series Bulletin. Aug. 2014. “Juveniles in Residential Placement, 2011.” U.S. Department of Justice, Office of Justice Programs, Juvenile Justice and Delinquency Prevention. www.ojjdp.gov/pubs/246826.pdf.

² Leone, Peter, and Lois Weinberg. 2012. “Addressing the Unmet Educational Needs of Children and Youth in the Juvenile Justice and Child Welfare Systems.” Washington, DC: Center for Juvenile Justice Reform. pp. 10-11. cjjr.georgetown.edu/wp-content/uploads/2015/03/EducationalNeedsofChildrenandYouth_May2010.pdf.

³ Osgood, D. Wayne, E. Michael Foster, and Mark E. Courtney. 2010. “Vulnerable Populations and the Transition to Adulthood.” The Future of Children 20 (1): pp. 209-229.

Many justice-involved youths come from families and neighborhoods considered high risk for involvement not only in the juvenile justice system, but also in the child welfare system. Commonly referred to as cross-over youths (defined as youth who often alternate between the child welfare and juvenile justice systems), these youths often have suffered abuse and neglect. Many also have the additional barriers of mental health and substance abuse problems. These issues not only put them at a greater risk for offending, but complicate service delivery once they enter the juvenile justice system.⁴

⁴ Bonnie, Richard J., Robert L. Johnson, Betty M. Chemers, and Julie Schuck. 2013. “Reforming Juvenile Justice: A Developmental Approach.” Washington, DC: National Research Council of the National Academies.

Youths involved in the juvenile justice system are often “hidden” from the public educational systems because they may not be enrolled in local district schools. As a result, the responsibility for these students' education becomes diffused or ignored and the students' academic outcomes are no longer a priority. Also, agencies sometimes duplicate or fragment services due to various inefficiencies, conflicting program implementation requirements, and other issues.⁵

⁵ Leone, Peter, and Weinberg, Lois, Addressing the Unmet Educational Needs of Children and Youth in the Juvenile Justice and Child Welfare Systems, Center for Juvenile Justice Reform, Georgetown University, 2012. pp. 2-4. http://cjjr.georgetown.edu/wp-content/uploads/2015/03/EducationalNeedsofChildrenandYouth_May2010.pdf.

The most recent Census of Juveniles in Residential Treatment found that approximately 1,470,000 youths were arrested and slightly more than 61,000 were confined in 2011. The majority of these youths were males between the ages of 15 and 17. Blacks comprised more than half of the confined population, followed in descending order by Whites, Hispanics, American Indians, Asians, and Pacific Islanders.⁶ Information on length of stay is not collected at the national level, but studies show that length of stay can vary from less than 60 days to well over a year.⁷

⁶ Sickmund, Melissa T., T.J. Sladky, Wei Kang, and Charles Puzzanchera. 2013. Easy Access to the Census of Juveniles in Residential Placement. www.ojjdp.gov/ojstatbb/ezacjrp.

⁷ The Census of Juveniles in Residential Treatment survey documented that 49 percent of youths had been confined for 60 days or less; 29 percent had been confined for 61 to 180 days; and 7 percent had been confined for more than a year (Sickmund et al. 2013).

Once released, many justice-involved youths do not return to school. Their juvenile justice placements often create severe disruptions in their education, for the following reasons:

• Educational credits from juvenile justice facilities may not be accepted at the student's public school when they return.

• Juvenile justice facility schools often do a poor job of administering education.

• Records may not transfer promptly from school to facility or between facilities.

• Students returning from the juvenile justice system are often rerouted into alternative-education programs or treated as “troublemakers.”

• Youths returning to school after placement often face a host of social challenges and stigmas.⁸

⁸ Juvenile Law Center. March 12, 2014. Lessons from “Kids for Cash,” Part 5: Disruptions in Education Disrupt Lives. www.jlc.org/blog/lessons-kids-cash-part-5-disruptions-education-disrupt-lives.

Many youths in the juvenile justice population have had little employment experience before confinement. Their employment challenges often intensify postrelease, with many struggling to find and keep jobs.⁹ This is particularly true if youths' records have not been expunged; if they have not been able to earn an educational credential; or if they have a disability.¹⁰ Having been out of the labor force for a period of time also puts justice-involved youths at a disadvantage. In addition to lacking technical skills and work experience, these youths lack critical employability skills, sometimes called “soft skills” or “workforce readiness skills,” which are the general skills necessary for success in the labor market, for all industries and at all career levels.¹¹

⁹ Wald, Michael, and Tia Martinez. 2003. “Connected by 25: Improving the Life Chances of the Country's Most Vulnerable 14-24 Year Olds.” Stanford, CA: Hewlett Foundation.

¹⁰ Waintrup, Miriam G., and Deanne Unrah. 2008. “Career Development Programming Strategies for Transitioning Incarcerated Adolescents to the World of Work.” The Journal of Correctional Education 59 (2): pp 127-144.

¹¹ See cte.ed.gov/employabilityskills/index.php/framework/.

The lack of transition planning for juveniles makes successful reentry and integration into the community extremely difficult. Service providers often receive inadequate professional development and specialized transition training. Due to a lack of interdisciplinary collaboration, service providers often are unprepared to provide appropriate transition services.¹²

¹² Leone, Peter, and Weinberg, Lois, Addressing the Unmet Educational Needs of Children and Youth in the Juvenile Justice and Child Welfare Systems, Center for Juvenile Justice Reform, Georgetown University, 2012. pp. 19-22. http://cjjr.georgetown.edu/wp-content/uploads/2015/03/EducationalNeedsofChildrenandYouth_May2010.pdf.

Information on recidivism rates is not collected at the national level because States use different definitions of recidivism. However, we know that justice-involved youths are at high risk for recidivism. The Annie Casey Foundation found that studies of youths released from residential corrections programs indicate that 70 to 80 percent of those youths are rearrested within 3 years. Studies also find that 38 to 58 percent of youths released from juvenile corrections facilities are found guilty of new offenses (as a juvenile or an adult) within 2 years and 45 to 72 percent within 3 years.¹³

¹³ Mendel, Richard A. 2011. “No Place for Kids: The Case for Reducing Juvenile Incarceration.” Baltimore, MD: The Annie E. Casey Foundation. www.aecf.org/resources/no-place-for-kids-full-report/.

It has become clear that no single agency can address the myriad needs of justice-involved youth. Justice-involved youths often are involved with multiple systems of care and their needs transcend professional boundaries and agency mandates. Historically, the juvenile justice system has worked in isolation, with inadequate communication and collaboration among agencies serving youths both within facilities and between facilities and the community. The lack of coordination and collaboration among key stakeholders has been a major barrier to addressing the poor education, employment, and well-being outcomes for justice-involved youths.¹⁴

¹⁴ Leone, Peter, and Weinberg, Lois, Addressing the Unmet Educational Needs of Children and Youth in the Juvenile Justice and Child Welfare Systems, Center for Juvenile Justice Reform, Georgetown University, 2012. Pp. 18-20 and 47-51. http://cjjr.georgetown.edu/wp-content/uploads/2015/03/EducationalNeedsofChildrenandYouth_May2010.pdf

The past decade has seen increased funding to improve programs, services, and outcomes for justice-involved youths. Multiple Federal agencies, including the Departments of Justice (Office of Juvenile Justice and Delinquency Prevention), Health and Human Services (Substance Abuse and Mental Health Services Administration, National Institutes of Health), Labor (Employment and Training Administration), and Education (Office for Civil Rights, Office of Elementary and Secondary Education), have taken on the issue of juvenile justice reform. Significant Federal funding has been dedicated to this issue, such as funding under the Second Chance Act and the Workforce Investment Act (WIA) (recently reauthorized as the Workforce Innovation and Opportunity Act of 2014 (WIOA), 29 U.S.C. 3101 et seq.). Federal and State partnerships with the philanthropic community, such as the John D. and Catherine T. MacArthur Foundation's “Models for Change” initiative, have also spurred innovation and reform in the juvenile justice system.

Just as juvenile justice reform efforts have intensified in the past decade, so too have efforts to improve the effectiveness of workforce education and training programs. The career pathways approach to workforce development is the most recent expression of efforts to meet workforce and industry demands through focused education and training.¹⁵ Career pathways link education, training, and support services to enable individuals to secure industry-relevant certification, obtain employment within an industry or occupational sector, and advance to successively higher levels of education and employment in that sector. Advanced education and training are now requirements for many jobs and professional careers. This has led to shifts in the ways in which public agencies design CTE and workforce programs and collaborate with partners across systems.

¹⁵ “Career Pathways Toolkit: Six Key Elements for Success” (Toolkit), Social Policy Research Associates for the U.S. Department of Labor, September 2011, pp 8-9.

In this spirit of cross-system collaboration, in recent years, Federal agencies and a variety of national, State, and local stakeholders have worked together to encourage the development of career pathways. At the Federal level, three Federal agencies, the U.S. Departments of Education (ED or the Department), Health and Human Services, and Labor, have led an interagency effort to advance career pathway systems,¹⁶ which has grown to include the U.S. Departments of Agriculture, Commerce, Housing and Urban Development, Transportation, and Energy. WIOA also promotes a career pathways approach to workforce development, stressing cross-agency workforce, education, and human services systems-building, and coordinated service delivery to create career pathways.¹⁷ In addition, section 129 of WIOA, 29 U.S.C. 3164, authorizes youth workforce investment activities that support further education and employment training for in-school and out-of-school youths, including justice-involved youths.

¹⁶ See www.careertech.org/sites/default/files/Joint_Letter_Career_Pathways.pdf.

¹⁷ www.gpo.gov/fdsys/pkg/PLAW-113publ128/pdf/PLAW-113publ128.pdf.

OCTAE has led the career pathways interagency effort for ED because CTE and career pathways are clearly interrelated. Both CTE and career pathways are informed by local labor market trends and designed to meet employer needs. For many, secondary CTE programs are the first point of entry into a career pathway.

CTE will be the primary education focus of projects funded under this grant competition. Studies of incarcerated adults have suggested that participating in CTE may reduce parole violations and recidivism rates and increase the likelihood of employment after release, in addition to promoting the acquisition of knowledge and skills. While similar research for justice-involved youths is limited, CTE potentially may offer these benefits to confined juveniles as well as adults.¹⁸

¹⁸ Davis, Lois M., Steele, Jennifer L. et el., “Effective Is Correctional Education, and Where Do We Go from Here? The Results of a Comprehensive Evaluation.” Rand Corporation, 2014. pp 47-50. www.rand.org/content/dam/rand/pubs/research_reports/RR500/RR564/RAND_RR564.pdf.

CTE programs, commonly referred to as “vocational education” in the juvenile justice setting, help students acquire the skills and knowledge they need for success in further education and careers. Generally, the Carl D. Perkins Career and Technical Education Act of 2006 (Pub. L. 109-270), 20 U.S.C. 2301 et seq. (Perkins IV or Act),¹⁹ defines CTE in section 3(5), 20 U.S.C. 2302(5), as organized educational activities that offer a sequence of courses that provides individuals with the academic and technical knowledge and skills needed to prepare for further education and for careers in current or emerging employment sectors. CTE contributes to students' academic knowledge, higher-order reasoning and problem-solving skills, work attitudes, general employability skills, technical skills, and occupation-specific skills. Competency-based applied learning, work-based learning, and comprehensive career development are key components of CTE. Section 112(a)(2)(A) of the Act, 20 U.S.C. 2322(a)(2)(A), requires each State to make available up to one percent of the State's allotment under section 111 to serve individuals in State institutions, such as State correctional institutions and institutions that serve individuals with disabilities. Recognizing the importance of offering effective CTE programs to justice-involved youths, during program year 2013-14, more than half of the States reported using Perkins IV funds to support CTE programming in juvenile justice facilities.²⁰ We would expect projects funded under this grant competition to build on these ongoing efforts.

¹⁹ See www.gpo.gov/fdsys/pkg/PLAW-109publ270/pdf/PLAW-109publ270.pdf.

²⁰ This information was reported in the States' 2013-2014 Perkins Consolidated Annual Reports.

In 2014, the U.S. Departments of Education and Justice identified evidence-based principles and promising practices to assist juvenile justice providers in addressing the systemic challenges described at the beginning of this Background section. The recently released “Guiding Principles for Improving Education Programs in Juvenile Justice Secure Care Settings” (Guiding Principles) ²¹ have informed the development of this grant opportunity because they provide a framework for implementing a comprehensive system of support services and educational programming to improve education outcomes for justice-involved youths in and upon leaving confinement. They underscore the need for a strong program infrastructure,²² as well as the need for cross-agency coordination and collaboration to create systemic reforms that will address the myriad needs of justice-involved youths. The five Guiding Principles, each followed by specific practices of particular relevance to this grant opportunity, are:

²¹ www2.ed.gov/policy/gen/guid/correctional-education/index.html.

²² For further guidance on developing and maintaining a strong program infrastructure, the following resources are particularly important: “Core Principles for Reducing Recidivism and Improving Other Outcomes for Youth in the Juvenile Justice System” from the National Evaluation and Technical Assistance Center (NDTAC) for Education of Children and Youth who are Neglected, Delinquent, and At-Risk (csgjusticecenter.org/youth/publications/juvenile-justice-white-paper/); and “Transition Toolkit 2.0” from the NDTAC for Education of Children and Youth who are Neglected, Delinquent, and At-Risk (www.neglected-delinquent.org/resource/transition-toolkit-20-meeting-educational-needs-youth-exposed-juvenile-justice-system).

Principle I. A safe, healthy facility-wide climate that prioritizes education, provides the conditions for learning, and encourages the necessary behavioral and social support services that address the individual needs of all youths, including those with disabilities and English learners.

Juvenile justice facilities should prioritize education, create the appropriate conditions for learning, and address individual needs through support services. Support services should be comprehensive and should align with the educational program. Facilities should: Use evidence-based assessments to identify appropriate activities; promote active youth engagement; include well-monitored prerelease planning that addresses the youths' diverse needs (e.g., mental health, substance abuse, family reengagement, and social, emotional, and behavioral skills deficits); provide care throughout all phases of reentry; and include approaches such as case management and mentoring.

Principle II. Necessary funding to support educational opportunities for all youths within long-term secure care facilities, including those with disabilities and English learners, comparable to opportunities for peers who are not system-involved.

Juvenile justice facilities should receive sufficient funding to ensure all justice-involved youths receive a quality education compared to peers who are not system-involved. Sufficient resources are needed to ensure a strong sustainable program infrastructure that supports a process for collecting, analyzing, and using data to improve program quality.

Principle III. Recruitment, employment, and retention of qualified education staff with skills relevant in juvenile justice settings who can positively impact long-term student outcomes through demonstrated abilities to create and sustain effective teaching and learning environments.

Juvenile justice facilities should recruit, employ, and retain qualified education staff. Staff should be trained on cultural competency in working with individuals of different socioeconomic status, race, and age. Staff also should learn how to create cooperative, supportive learning environments in a juvenile justice setting; build positive relationships with students; and help students meet program requirements and transition to the larger community.

Principle IV. Rigorous and relevant curricula aligned with State academic and career and technical education standards that utilize instructional methods, tools, materials, and practices that promote college- and career-readiness.

Juvenile justice facilities should provide rigorous, relevant curricula that is standards-driven and uses appropriate instructional practices that prepare students for college and the workforce. Education services should: Be tailored to the youths' age, prior experiences, and specific developmental needs (e.g., disabilities and English language skills); connect to career pathways that incorporate students' needs and interests; involve students in planning; and include programs such as CTE, youth-centered career development services, and work-based learning.

Principle V. Formal processes and procedures—through statutes, memoranda of understanding, and practices—that ensure successful navigation across child-serving systems and smooth reentry into communities.

Juvenile justice facilities should implement processes and procedures to support the youths' transition from confinement to the community. This requires collaborative, well-defined partnerships that bridge facility- and community-based providers and systems that serve justice-involved youths, as well as other youth-serving systems, such as education, child welfare, employment, housing, behavioral health, and physical health services. These partnerships should have policies and procedures that support communication, youth transitions, data sharing, and accountability.

Projects funded under this grant competition must be implemented in partnership with a variety of providers and systems, to garner the resources and expertise needed to implement specific practices from the Guiding Principles that will address the specific, identified needs of youths to be served under the proposed JJ Reentry CTE program, and to support their successful transition from confinement to the community. We would expect funded projects to use partner resources to provide programming and wraparound services that address participating youths' broader education and well-being needs and support successful reentry. We would expect funded projects to use JJ Reentry CTE Program funds for CTE-related programs and services, such as youth-centered career development services, effective CTE programs (including work-based learning where feasible), and career pathways, that support successful transitions from confinement to the community and to further education and employment.

Nearly all youths leave juvenile justice facilities and return to their communities. For successful reentry to their communities, youths must be prepared to return to school, to access postsecondary education or employment training, or to enter employment. Through this competition, the Secretary will support the establishment and operation of projects that build on existing efforts to improve reentry outcomes for justice-involved youths, make CTE the education focus of their efforts, and build strong partnerships to implement a comprehensive, collaborative approach to improving education, employment, and other positive, well-being outcomes for justice-involved youths.

Priorities: This notice includes three absolute priorities, one competitive preference priority, and one invitational priority.

We are establishing the absolute and competitive preference priorities in a FY 2016 grant competition and any subsequent year in which we make awards from the list of unfunded applicants from this competition, in accordance with section 437(d)(1) of the General Education Provisions Act (GEPA), 20 U.S.C. 1232(d)(1). The invitational priority is from the Secretary's final supplemental priorities and definitions for discretionary grant programs (Supplemental Priorities) published in the Federal Register on December 10, 2014 (79 FR 73425).

Absolute Priorities: The following priorities are absolute priorities. Under 34 CFR 75.105(c)(3) we consider only applications that meet all three of these absolute priorities.

These priorities are:

Absolute Priority 1: Improving School Climate, Behavioral Supports, and Correctional Education.

To meet this priority, an applicant must propose a project designed to improve the quality of CTE programs in juvenile justice facilities (such as detention facilities and secure and non-secure placements) and support reentry after release, by linking the youths to education, wraparound services and youth centered job training programs.

Absolute Priority 2: Enhancing State or Local Efforts to Improve Reentry Outcomes.

To meet this priority, an applicant must propose a project designed to build upon and enhance State or local efforts to improve reentry outcomes for justice-involved youth, such as those carried out under the Elementary and Secondary Education Act's Title I, Part D, Prevention and Intervention Programs for Children and Youth Who are Neglected, Delinquent, or At-Risk, the Second Chance Act, Perkins IV, WIA/WIOA Youth Workforce Investment Activities, the Department of Labor Employment Training Administration Reentry Employment Opportunities programs, career pathways initiatives, or other Federal, State, local, or philanthropy-funded initiatives.

Absolute Priority 3: Partnerships.

To meet this priority, an applicant must propose to implement a project in partnership with a variety of providers and systems. An applicant must—

(a) Identify required partners which must include at least one of each of the following—

(1) Juvenile justice agency;

(2) Local educational agency (including representatives specializing, for instance, in CTE, special education, and other fields);

(3) Postsecondary institution (including representatives specializing, for instance, in postsecondary CTE, workforce development, and other fields); and

(4) Workforce development agency.

(b) In addition, the applicant may identify other potential partners, including—

(1) Child welfare agencies;

(2) Workforce investment boards;

(3) Employers;

(4) Labor organizations;

(5) Other social service agencies;

(6) Community-based organizations; and

(7) Other entities.

(c) Include a letter of commitment from each entity with which it will partner to implement the proposed project.

Competitive Preference Priorities: These priorities are competitive preference priorities. Under 34 CFR 75.105(c)(2)(i), we award up to an additional 10 points for each competitive preference priority, depending on how well the application meets the priority.

These priorities are:

Competitive Preference Priority 1: Coordinating Juvenile Justice Reentry Education Programs and Services.

Projects that are designed to coordinate juvenile justice reentry education programs and services to be provided with programs and services being provided through subgrants received under Title I, Part D, Prevention and Intervention Programs for Children and Youth Who are Neglected, Delinquent, or At-Risk of the Elementary and Secondary Education Act.

Competitive Preference Priority 2: Improving Job-Driven Training and Employment Outcomes.

Projects that are designed to improve job-driven training and employment outcomes for participating justice-involved youths by integrating the education and training to be provided into a career pathways program or system that: (1) Aligns education and training programs offered by community colleges, other institutions of higher education, and other workforce training providers; (2) offers related stackable credentials (as defined in this notice); and (3) provides support services that enable high-need students (as defined in this notice) to obtain industry-recognized credentials and obtain employment within an occupational area with the potential to advance to higher levels of education and employment in that area.

Under this competition we are particularly interested in applications that address the following priority.

Invitational Priority: For FY 2015 and any subsequent year in which we make awards from the list of unfunded applicants from this competition, this priority is an invitational priority. Under 34 CFR 75.105(c)(1) we do not give an application that meets this invitational priority a competitive or absolute preference over other applications.

This priority is:

Invitational Priority: Leveraging Technology To Support Instructional Practice and Professional Development.

Projects that are designed to leverage technology through implementing high-quality accessible digital tools, assessments, and materials that are aligned with rigorous college- and career-ready standards.

Application Requirements

The application requirements are:

(a) Applicants must propose to serve the residents of at least one residential juvenile justice facility.

(b) Applicants must—

(1) Identify specific practices from the “Guiding Principles for Improving Education Programs in Juvenile Justice Secure Care Settings” that are based on strong theory (as defined in this notice) and that they will implement and describe how those practices will address the specific, identified needs of youths to be served.

(2) Describe each partner's role in implementing the specific practices identified under Application Requirement (b)(1); and

(3) Describe each partner's relevant experience, including experience working with justice-involved youths.

(c) Applicants must describe how the CTE programs to be offered under the JJ Reentry CTE Program will—

(1) Be supported by current labor market information;

(2) Respond to employer needs;

(3) Integrate general employability skills with career and technical instruction;

(4) Provide career exploration, guidance, and planning; and

(5) Lead to industry-recognized credentials that align with secondary and postsecondary CTE programs and/or other workforce training and employment opportunities post-release.

(d) Applicants must describe how professional development needs will be identified and addressed in the project in order to address the needs of participating justice-involved youths and to deliver high-quality CTE services.

(e) Applicants must submit a detailed project plan, for the entire project period. The plan must include a timeline of specific activities to be carried out in each year of the project.

(f) Applicants must—

(1) Include a plan for annual project evaluations that will assess the project's progress in meeting its goals and objectives, provide feedback for the project partners on the effectiveness of key project components, and identify areas needing improvement; and

(2) Describe current capacity to share participant data collected by the different project partners and a plan to improve that capacity if necessary, for the purpose of meeting participant needs and reporting valid and reliable data on the required performance measures.

Definitions

The definitions of “regular high school diploma” and “stackable credentials” are from the Supplemental Priorities. The definition of “high-need students” is based on the Supplemental Priorities. The definitions of “logic model” and “strong theory” are from the Education Department General Administrative Regulations (EDGAR) at 34 CFR 77.1(c).

High-need students means students who are at risk of educational failure or otherwise in need of special assistance and support, such as students who are living in poverty, who attend high-minority schools, who are far below grade level, who have left school before receiving a regular high school diploma, who are at risk of not graduating with a diploma on time, who are homeless, who are in foster care, who have been incarcerated, who have disabilities, or who are English learners.

Logic model (also referred to as theory of action) means a well-specified conceptual framework that identifies key components of the proposed process, product, strategy, or practice (i.e., the active “ingredients” that are hypothesized to be critical to achieving the relevant outcomes) and describes the relationships among the key components and outcomes, theoretically and operationally.

Regular high school diploma means the standard high school diploma that is awarded to students in the State and that is fully aligned with the State's academic content standards or a higher diploma and does not include a General Education Development (GED) credential, certificate of attendance, or any alternative award.

Stackable credentials means credentials that are part of a sequence of credentials that can be accumulated over time to increase an individual's qualifications and help him or her to advance along a career pathway to different and potentially higher-paying jobs.

Strong theory means a rationale for the proposed process, product, strategy, or practice that includes a logic model.

Waiver of Proposed Rulemaking: Under the Administrative Procedure Act, 5 U.S.C. 553, the Department generally offers interested parties the opportunity to comment on proposed priorities, definitions and other requirements. Section 437(d)(1) of GEPA, however, allows the Secretary to exempt from rulemaking requirements regulations governing the first grant competition under a new or substantially revised program authority. This is the first grant competition for this program under section 114(c)(1) of the Perkins IV (20 U.S.C. 2324(c)(1)) and therefore qualifies for this exemption. In order to ensure timely grant awards, the Secretary has decided to forgo public comment on the priorities, definitions, and other requirements under section 437(d)(1) of GEPA. These priorities, definitions, and other requirements will apply to the FY 2016 grant competition and any subsequent year in which we make awards from the list of unfunded applicants from this competition.

Program Authority: 20 U.S.C. 2324; 42 U.S.C. 3797.

Applicable Regulations: (a) EDGAR in 34 CFR parts 75, 77, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The Supplemental Priorities.

Note: The regulations in 34 CFR part 86 apply to institutions of higher education only.

II. Award Information

Type of Award: Discretionary grants.

Estimated Available Funds: $1,900,000 for the first 12 months of the project period. Funding for years two and three is subject to the availability of funds and to a grantee meeting the requirements of 34 CFR 75.253.

Estimated Range of Awards: $200,000-$400,000.

Estimated Average Size of Award: $315,000.

Estimated Number of Awards: 6.

Note: The Department is not bound by any estimates in this notice.

Project Period: Up to 36 months. Applicants under this competition are required to provide detailed budget information for each of the 3 years of this project and for the total grant.

III. Eligibility Information

1. Eligible Applicants: Perkins IV eligible recipients, which are—

(a) Eligible agencies defined in section 3(12) of the Act, 20 U.S.C. 2302(12), as a State board designated or created consistent with State law as the sole State agency responsible for the administration of CTE in the State or for the supervision of the administration of CTE in the State; and

(b) Eligible recipients defined in section 3(14) of the Act, 20 U.S.C. 2302(14), as—

(1) A local educational agency (including a public charter school that operates as a local educational agency), an area CTE school, an educational service agency, or a consortium, eligible to receive assistance under section 131 of the Act; or

(2) An eligible institution or consortium of eligible institutions eligible to receive assistance under section 132 of the Act.

Note: Section 3(13) of the Act, 20 U.S.C. 2302(13), defines “eligible institution” as (a) a public or nonprofit private institution of higher education that offers CTE courses that lead to technical skill proficiency, an industry-recognized credential, a certificate, or a degree; (b) a local educational agency providing education at the postsecondary level; (c) an area CTE school providing education at the postsecondary level; (d) a postsecondary educational institution controlled by the Bureau of Indian Affairs or operated by or on behalf of any Indian tribe that is eligible to contract with the Secretary of the Interior for the administration of programs under the Indian Self-Determination and Education Assistance Act (925 U.S.C. 450 et seq.) or the Act of April 16, 1934 (25 U.S.C. 452 et seq.); (e) an educational service agency; or (f) a consortium of two or more of the entities described in (a) through (e).

2. Cost Sharing or Matching: This program does not require cost sharing or matching.

3. Supplement-not-Supplant: This program is subject to supplement-not-supplant funding requirements. In accordance with section 311(a) of the Act, 20 U.S.C. 2391(a), funds under this program may not be used to supplant non-Federal funds used to carry out CTE activities. Further, the prohibition against supplanting also means that grantees will be required to use their negotiated restricted indirect cost rates under this program. (34 CFR 75.563)

IV. Application and Submission Information

1. Address to Request Application Package: You can obtain an application package via the Internet or from the Education Publications Center (ED Pubs), or from the program office. To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.051A.

To obtain a copy from the program office, contact the persons listed under For Further Information Contact in section VII of this notice.

Individuals with disabilities can obtain a copy of the application package in an accessible format (e.g., braille, large print, audiotape, or compact disc) by contacting the person or team listed under Accessible Format in section VIII of this notice.

2. a. Content and Form of Application Submission: Requirements concerning the content of an application, together with the forms you must submit, are in the application package for this competition.

Page Limit: The application narrative (Part III of the application) is where you, the applicant, address the selection criteria that reviewers use to evaluate your application. You must limit the application narrative to no more than 35 pages, using the following standards:

• A “page” is 8.5” x 11”, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; the one-page abstract, or the resumes, bibliography, letters of support, or other appendices.

Our reviewers will not read any pages of your application that exceed the page limit.

b. Submission of Proprietary Information:

Given the types of projects that may be proposed in applications for the JJ Reentry CTE Program, your application may include business information that the applicant considers proprietary. The Department's regulations define “business information” in 34 CFR 5.11.

Because we plan to make successful applications available to the public upon request, you may wish to request confidentiality of business information. Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: August 31, 2015.

Date of Pre-Application Meeting: September 9, 2015.

Deadline for Transmittal of Applications: October 30, 2015.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: December 29, 2015.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)),the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this program must be submitted electronically unless you qualify for an exception to this requirement in accordance with the instructions in this section.

a. Electronic Submission of Applications.

Applications for grants under the JJ Reentry CTE Program competition, CFDA number 84.051A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the JJ Reentry CTE Program at www.Grants.gov. You must search for the downloadable application package for this program by the CFDA number. Do not include the CFDA number's alpha suffix in your search (e.g., search for 84.051, not 84.051A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date.

Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Laura Messenger, U.S. Department of Education, 400 Maryland Avenue SW., PCP, Room 11028, Washington, DC 20202-7241. FAX: (202) 245-7170.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.051A) LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service. If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.051A) 550 12th Street SW., Room 7039 Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 of EDGAR and are listed in the following paragraphs. The maximum score for all the selection criteria is 100 points. In addressing the criteria, applicants are encouraged to make explicit connections to the priorities and application requirements listed elsewhere in this notice. The selection criteria are as follows:

a. Need for project. (up to 15 points) The Secretary considers the need for the proposed project. In determining the need for the proposed project, the Secretary considers—

1. The magnitude of the need for the services to be provided or the activities to be carried out by the proposed project (up to 5 points); and

2. The extent to which specific gaps or weaknesses in services, infrastructure, or opportunities have been identified and will be addressed by the proposed project, including the nature and magnitude of those gaps or weaknesses (up to 10 points).

b. Significance. (up to 10 points) The Secretary considers the significance of the proposed project. In determining the significance of the proposed project, the Secretary considers—

1. The likelihood that the proposed project will result in system change or improvement (up to 5 points); and

2. The extent to which the proposed project is likely to build local capacity to provide, improve, or expand services that address the needs of the target population (up to 5 points).

c. Quality of the project design. (up to 30 points) The Secretary considers the quality of the design of the proposed project. In determining the quality of the design of the proposed project, the Secretary considers—

1. The extent to which the goals, objectives, and outcomes to be achieved by the proposed project are clearly specified and measurable (up to 5 points);

2. The extent to which the design of the proposed project is appropriate to, and will successfully address, the needs of the target population or other identified needs (up to 5 points);

3. The extent to which the proposed project is designed to build capacity and yield results that will extend beyond the period of Federal financial assistance (up to 5 points);

4. The extent to which the proposed project represents an exceptional approach to the priority or priorities established for the competition (up to 10 points); and

5. The extent to which the proposed project is supported by strong theory (as defined in 34 CFR 77.1(c)) (up to 5 points).

d. Quality of the management plan. (up to 15 points) The Secretary considers the quality of the management plan for the proposed project. In determining the quality of the management plan for the proposed project, the Secretary considers—

1. The adequacy of the management plan to achieve the objectives of the proposed project on time and within budget, including clearly defined responsibilities, timelines, and milestones for accomplishing project tasks (up to 10 points); and

2. The extent to which the time commitments of the project director and principal investigator and other key project personnel are appropriate and adequate to meet the objectives of the proposed project (up to 5 points).

e. Adequacy of resources. (up to 15 points) The Secretary considers the adequacy of resources for the proposed project. In determining the adequacy of resources for the proposed project, the Secretary considers—

1. The relevance and demonstrated commitment of each partner in the proposed project to the implementation and success of the project (up to 5 points);

2. The extent to which the costs are reasonable in relation to the objectives, design, and potential significance of the proposed project (up to 5 points); and

3. The potential for continued support of the project after Federal funding ends, including, as appropriate, the demonstrated commitment of appropriate entities to such support (up to 5 points).

f. Quality of the project evaluation. (up to 15 points) The Secretary considers the quality of the evaluation to be conducted of the proposed project. In determining the quality of the evaluation, the Secretary considers—

1. The extent to which the methods of evaluation are thorough, feasible, and appropriate to the goals, objectives, and outcomes of the proposed project (up to 5 points);

2. The extent to which the methods of evaluation include the use of objective performance measures that are clearly related to the intended outcomes of the project and will produce quantitative and qualitative data to the extent possible (up to 5 points); and

3. The extent to which the methods of evaluation will provide performance feedback and permit periodic assessment of progress toward achieving intended outcomes (up to 5 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also. If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act, Federal departments and agencies must clearly describe the goals and objectives of their programs, identify resources and actions needed to accomplish these goals and objectives, develop a means of measuring progress made, and regularly report on their achievement. One important source of program information is the annual project evaluation conducted under individual grants. To determine the overall effectiveness of projects funded under this competition, grantees must be prepared to measure and report on the following measures of effectiveness:

(a) The number and percentage of youths served by the JJ Reentry CTE Program that are enrolled in further education or training, post-release, such as:

(1) Secondary education or other State-approved equivalent;

(2) GED bridge program;

(3) Postsecondary education; or

(4) Workforce training program.

(b) The number and percentage of youths served by the JJ Reentry CTE Program that complete secondary education.

(c) The number and percentage of youths served by the JJ Reentry CTE Program that attain an industry-recognized credential, certificate, or degree.

(d) The number and percentage of youths served by the JJ Reentry CTE Program that seek and obtain employment after release.

(e) The number and percentage of youths served by the JJ Reentry CTE Program that are adjudicated within one year of release, as evidenced by rearrest, conviction for new offenses (as a juvenile or adult), and reincarceration.

In addition to these measures, applicants may establish interim or other measures that they think will be useful in measuring positive outcomes for participating youths, such as learning gains, continued enrollment in CTE courses that support the student's career goals, desired changes in behavior, and other measures of positive youth gains. Grantees will be responsible for collecting and reporting data annually on the required performance measures as well as any other performance measures they choose to establish for this JJ Reentry CTE Program.

5. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contacts

FOR FURTHER INFORMATION CONTACT: Laura Messenger, U.S. Department of Education, 400 Maryland Avenue SW., Room 11028, Washington, DC 20202. Telephone: (202)245-7840 or by email: laura.messenger@ed.gov.

If you use a TDD or TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: August 25, 2015.
Johan E. Uvin,
Acting Assistant Secretary for Career, Technical, and Adult Education.

[FR Doc. 2015-21533 Filed 8-28-15; 8:45 am]

BILLING CODE 4000-01-P